DEPARTMENT OF DEFENSE

Office of the Secretary

[Transmittal No. 22-0C]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0C.

Dated: May 8, 2024.
Aaron T. Siegel,
Alternate OSD Federal Register Liaison Officer, Department of Defense.

Transmittal No. 22-0C

Report of Enhancement or Upgrade of Sensitivity of Technology or Capability (Sec. 36(B)(5)(C), AECA)

(i) Purchaser: Government of Switzerland

(ii) Sec. 36(b)(1), AECA Transmittal No.: 20-35

Date: September 30, 2020

Implementing Agency: Air Force, Navy

(iii) Description: On September 30, 2020, Congress was notified by Congressional certification transmittal number 20-35 of the possible sale, under Section 36(b)(1) of the Arms Export Control Act, of up to forty (40) F-35 Joint Strike Fighter Conventional Take Off and Landing (CTOL) aircraft; forty-six (46) Pratt & Whitney F-135 engines; forty (40) Sidewinder AIM-9X Block II+ (Plus) Tactical Missiles; fifty (50) Sidewinder AIM-9X Block II Captive Air Training Missiles (CATMs); six (6) Sidewinder AIM-9X Block II Special Air Training Missiles (NATMS); four (4) Sidewinder AIM-9X Block II Tactical Guidance Units; ten (10) Sidewinder AIM-9X Block II CATM Guidance Units; eighteen (18) KMU-572 JDAM Guidance Kits for GBU-54; twelve (12) Bomb MK-82 500LB, General Purpose; twelve (12) Bomb MK-82, Inert; twelve (12) GBU-53/B Small Diameter Bomb II (SDB II) All-Up Round (AUR); and eight (8) GBU-53/B SDB II Guided Test Vehicle (GTV). Also included are Electronic Warfare Systems; Command, Control, Communications, Computer and Intelligence/Communications, Navigational, and Identification (C4I/CNI); Autonomic Logistics Global Support System (ALGS); Autonomic Logistics Information System (ALIS); Full Mission Trainer; Weapons Employment Capability and other Subsystems, Features, and Capabilities; F-35 unique infrared flares; reprogramming center access; F-35 Performance Based Logistics; software development/integration; flight test instrumentation; aircraft ferry and tanker support; Detector Laser DSU-38A/B, Detector Laser DSU-38A(D-2)/B, FMU-139D/B Fuze, KMU-572(D-2)/B Trainer (JDAM), 40 inch Wing Release Lanyard; GBU-53/B SDB II Weapon Load Crew Trainers (WLCT); Cartridge, 25 mm PGU-23/U; weapons containers; aircraft and munitions support and test equipment; communications equipment; spares and repair parts; repair and return support; personnel training and training equipment; publications and technical documents; U.S. Government and contractor engineering, technical, and logistics support services; and other related elements of logistical and program support. The total estimated cost was $6.58 billion. Major Defense Equipment (MDE) constituted $4.08 billion of this total.

On December 4, 2020, Congress was notified by Congressional certification transmittal number 0B-21 of a clarification of eighteen (18) FMU-139D/B Fuzes as MDE items. This transmittal further reported a clarification of the description for AIM-9X Guidance Units from “four (4) Sidewinder AIM-9X Block II Tactical Guidance Units” to “four (4) Sidewinder AIM-9X Block II+ (plus) Tactical Guidance Units.” The total MDE remained $4.08 billion. The total case value remained $6.58 billion.

This transmittal reports an extension of operation and sustainment costs for Switzerland's F-35 (non-MDE articles and services). There is no additional MDE being reported with this notification; as such, the total MDE value remains $4.08 billion. The total cost of the new non-MDE articles and services is $1.95 billion. The total case value will increase to $8.53 billion.

(iv) Significance: This notification is provided due to the increased costs associated with the request for a longer period of Operations and Sustainment costs, as modified by the Swiss government from their original request.

(v) Justification: This proposed sale will support the foreign policy and national security of the United States by helping to improve the security of a friendly European nation that continues to be an important force for political stability and economic progress in Europe.

(vi) Sensitivity of Technology: The Sensitivity of Technology Statement contained in the original notification applies to articles and services here.

(vii) Date Report Delivered to Congress: February 18, 2022.

[FR Doc. 2024-10385 Filed 5-10-24; 8:45 am]

BILLING CODE 6001-FR-P